GENERAL SERVICES ADMINISTRATION

[OMB Control No. 3090-0014; Docket No. 2021-0001; Sequence No. 14]

Submission for OMB Review; Transfer Order-Surplus Personal Property and Continuation Sheet, Standard Form (SF) 123

AGENCY: Federal Acquisition Service, General Services Administration (GSA).

ACTION: Notice of request for an extension to an existing OMB clearance.

SUMMARY: Under the provisions of the Paperwork Reduction Act, the Regulatory Secretariat Division will be submitting to the Office of Management and Budget (OMB) a request to review and approve an extension of a previously approved information collection requirement regarding the Transfer Order-Surplus Personal Property and Continuation Sheet, Standard Form (SF) 123.

DATES: Submit comments on or before: March 28, 2022.

ADDRESSES: Written comments and recommendations for this information collection should be sent within 30 days of publication of this notice to www.reginfo.gov/public/do/PRAMain. Find this particular information collection by selecting “Currently under Review—Open for Public Comments” or by using the search function.

FOR FURTHER INFORMATION CONTACT: Mr. Christopher Willett, Property Disposal Specialist, GSA Office of Personal Property Management, at telephone 703-605-2873 or via email to christopher.willett@gsa.gov.

SUPPLEMENTARY INFORMATION:

A. Purpose

The Transfer Order-Surplus Personal Property and Continuation Sheet, Standard form (SF) 123, is used by a State Agency for Surplus Property (SASP) to donate Federal surplus personal property to public agencies, nonprofit educational or public health activities, programs for the elderly, service educational activities, and public airports. The SF 123 serves as the transfer instrument and includes item descriptions, transportation instructions, nondiscrimination assurances, and approval signatures.

B. Annual Reporting Burden

Respondents (electronic): 30,890.

Respondents (manual): 312.

Total Number of Respondents: 31,202.

Total Hours per Response (electronic at .017 Hours per Response): 525.13.

Total Hours per Response (manual at .13 Hours per Response): 40.56.

Total Burden Hours: 565.69.

C. Public Comments

A 60-day notice published in the Federal Register at 86 FR 66564 on November 23, 2021. No comments were received.

Obtaining Copies of Proposals: Requesters may obtain a copy of the information collection documents from the GSA Regulatory Secretariat Division, by calling 202-501-4755 or emailing GSARegSec@gsa.gov. Please cite OMB Control No. 3090-0014, Transfer Order-Surplus Personal Property and Continuation Sheet, Standard Form (SF) 123, in all correspondence.

Beth Anne Killoran,
Deputy Chief Information Officer.

[FR Doc. 2022-04015 Filed 2-24-22; 8:45 am]

BILLING CODE 6820-34-P